DEPARTMENT OF ENERGY

Federal Energy Regulatory Commission

[Docket No. CP01-106-000]

Kern River Gas Transmission Company; Notice of Application

March 16, 2001.

Take notice that on March 15, 2001, Kern River Gas Transmission Company (Kern River), 295 Chipeta Way, Salt Lake City, Utah 84158, filed an application in Docket No. CP01-106-000 pursuant to Sections 7(c) and 7(b) of the Natural Gas Act (NGA) for temporary and permanent certificates of public convenience and necessity authorizing Kern River to construct and operate emergency facilities to provide up to 135,000 Mcf per day of limited-term, incremental transportation capacity from Wyoming to California to help meet the urgent need for additional energy in California, all as more fully set forth in the application which is on file with the Commission and open to public inspection. This filing may be viewed on the web at http://www.ferc.us/online/rims.htm (call 202-208-2222 for assistance).

Subject to receipt of all necessary permits and regulatory authorizations, Kern River anticipates an in-service date of approximately July 1, 2001 for this needed capacity.

In addition, Kern River requests pre-granted approval and permission to abandon certain proposed temporary facilities upon replacement by permanent facilities in a superceding expansion project. Further, Kern River requests approval of incremental transportation rates for the proposed services; approval of pro forma FERC Gas Tariff sheets reflecting the incremental transportation rates and associated incremental compressor fuel reimbursement provisions; and approval of its proposed accounting treatment for certain facility costs.

Kern River states that the name, address, and telephone number of the person to whom correspondence and communication concerning this application should be addressed is: Gary Kotter, Manager, Certificates, Kern River Gas Transmission Company, P.O. Box 58900, Salt Lake City, Utah 84158, (801) 584-7117.

Kern River states that the emergency facilities include: (1) three new compressor stations—the Elberta Compressor Station in Utah County, Utah; the Veyo Compressor Station in Washington County, Utah; and the Daggett Compressor Station in San Bernardino County, California; (2) upgrades and restages for the compressor units at three existing compressor stations—the Muddy Creek Compressor Station in Lincoln County, Wyoming; Fillmore Compressor Station in Millard County, Utah; and the Goodsprings Compressor Station in Clark County, Nevada; and (3) an upgrade of the existing Wheeler Ridge Meter Station in Kern County, California.

Kern River states that approval of new compressor stations at these cities also is pending in Docket No. CP01-31-000 for Kern River's 2002 Expansion Project. However, due to the availability of suitable compressor units for immediate emergency installation, the compressor configurations proposed herein are different.

According to Kern River, the compressor unit proposed for the new Daggett Compressor Station is a temporary facility, which will subsequently be replaced with a permanent compressor unit as part of Kern River's 2002 Expansion Project. Kern River states that upon conclusion of the proposed California Emergency Action, the remainder of the proposed emergency facilities will be permanently incorporated into either the 2002 Expansion Project or Kern River's forthcoming 2003 Expansion Project.

Kern River requests pre-granted approval and permission to abandon the proposed temporary emergency compressor unit at the Daggett Compressor Station upon the in-service date of the replacement permanent unit for the 2002 Expansion Project. It is stated that the in-service date for the replacement permanent compressor unit is May 1, 2003. Kern River states that the certificate application for the 2002 Expansion Project will be amended to reflect the delayed in-service date for the Daggett permanent compressor unit.

According to Kern River, the proposed compression facilities will add a total of 53,900 ISO-rates horsepower (15,000 of which is temporary) to the Kern River system and will create 135,000 Mcf per day (Mcf/d) of incremental transportation capacity, year-round, from Wyoming to California. It is estimated that the cost of the proposed facilities is approximately $81 million, which includes $10.5 million for temporary facilities and $18.5 million of increased costs attributable to the significantly compressed and accelerated construction activities for the permanent facilities.

It is further stated that an open-season has resulted in binding commitments under Rate Schedule KRF-1 for all of the proposed incremental capacity. A total of 135,000 Mcf/d of firm service will be provided commencing with an anticipated in-service date of about July 1, 2001, with 114,000 Mcf/d of that capacity expiring April 30, 2002 and the remaining 21,000 Mcf/d expiring April 30, 2003. It is stated that the latter increment of capacity represents capacity provided by the proposed emergency facilities that will be in excess of the 124,500 Dth per day of long-term contract commitments for the 2002 Expansion Project.

Kern River further requests approval of incremental transportation rates for the proposed capacity, approval of a pro forma FERC Gas Tariff provision providing for incremental compressor fuel reimbursement and approval of its proposed accounting treatment for certain facility costs.

Kern River states that its proposed incremental transportation rate on a 100 percent load factor rate is $0.8790 per Mcf, exclusive of surcharges. It is stated that of this base incremental rate, the reservation charge component is $0.8190 per Mcf and the commodity charge component is $0.06 per Mcf. Kern River avers that the incremental fuel reimbursement rates are proposed to be 4.2 percent for the period from July 1, 2001 through April 30, 2002; and 6.2 percent for the period from May 1, 2002 through April 30, 2003.

Pending issuance of a permanent certificate for its proposed emergency action, Kern River requests that the Commission issue it a temporary certificate pursuant to Section 157.17 of its regulations. It is stated that the proposed emergency facilities must be completed as soon as possible to address the urgent need for deliveries of additional natural gas supplies to existing and new electric generation markets to help meet California's energy needs during the 2001 cooling season.

Any person desiring to be heard or to make protest with reference to said application should on or before March 30, 2001, file with the Federal Energy Regulatory Commission, 888 First Street, NE., Washington, DC 20426, a motion to intervene or a protest in accordance with the requirements of the Commission's Rules of Practice and Procedure (18 CFR 385.211 or 385.214) and the regulations under the Natural Gas Act (18 CFR 157.10). All protests filed with the Commission will be considered by it in determining the appropriate action to be taken but will not serve to make the protestants parties to the proceeding. The Commission's rules require that protestors provide copies of their protests to the party or parties directly involved. Any person wishing to become a party to a proceeding or to participate as a party in any hearing therein must file a motion to intervene in accordance with the Commission's rules.

A person obtaining intervenor status will be placed on the service list maintained by the Commission and will receive copies of all documents issued by the Commission, filed by the applicant, or filed by all other intervenors. An intervenor can file for rehearing of any Commission order and can petition for court review of any such order. However, an intervenor must submit copies of comments or any other filing it makes with the Commission to every other intervenor in the proceeding, as well as 14 copies with the Commission.

A person does not have to intervene, however, in order to have comments considered. A person, instead, may submit two copies of comments to the Secretary of the Commission. Commenters will not be placed on the Commission's environmental mailing list, will receive copies of environmental documents and will be able to participate in meetings associated with the Commission's environmental review process. Commenters will not be required to serve copies of filed documents on all other parties. However, commenters will not receive copies of all documents filed by other parties or issued by the Commission and will not have the right to seek rehearing or appeal the Commission's final order to a federal court.

The Commission will consider all comments and concerns equally, whether filed by commenters or those requesting intervener status.

Take further notice that, pursuant to the authority contained in and subject to jurisdiction conferred upon the Commission by Sections 7 and 15 of the NGA and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for Kern River to appear or be represented at the hearing.

Also, comments, protest, or interventions may be filed electronically via the internet in lieu of paper. See 18 CFR 385.2001(a)(1)(iii) and the instructions on the Commission's web site at http://www.ferc.fed.us/efi/doorbell.htm.

Linwood A. Watson, Jr.,
Acting Secretary.

[FR Doc. 01-7104 Filed 3-21-01; 8:45 am]

BILLING CODE 6717-01-M